DEPARTMENT OF ENERGY

Federal Energy Regulatory Commission

[Docket No. AD20-11-000]

Extension of Non-Statutory Deadlines; Supplemental Notice

In response to emergency conditions caused by Novel Coronavirus Disease (COVID-19), on May 8, 2020, the Secretary first waived the Commission's regulations that require that filings with the Commission be notarized or supported by sworn declarations.¹ On December 8, 2021, the Secretary extended this waiver through March 31, 2022.²

¹ See, e.g., 18 CFR 45.7 (2021) (requiring application for authority to hold interlocking positions to be verified under oath).

² Supplemental Notice Waiving Regulations, Extension of Non-Statutory Deadlines, Docket No. AD20-11-000 (Dec. 8, 2021) (December 2021 Notice).

Many companies and individuals have continued to return to their workplaces since issuance of the December 2021 Notice, and we expect more will do so in the coming months. Further, the Secretary noted in the December 2021 Notice that the Commission did not “anticipate issuing any further blanket extensions discussed herein after March 31, 2022.” ³ In light of improving conditions nationally, the Secretary provides this notice that the Commission will not extend the blanket waivers discussed herein after March 31, 2022. Beginning April 1, 2022, the Commission expects that entities will comply in the ordinary course with requirements in the Commission's regulations that filings be notarized or supported by sworn declarations.

³ Id. The Commission concurrently is issuing an order in Docket No. EL20-37-000 allowing expiration of blanket waiver of requirements to hold in-person meetings and/or to provide or obtain notarized documents in open access transmission tariffs and other Commission-jurisdictional agreements. Temporary Action to Facilitate Social Distancing, 178 FERC ¶ 61,190 (2022).

The Commission recognizes that there could be certain circumstances that may warrant entity-specific waivers of these obligations after March 31, 2022. This notice reminds entities that if they believe that specific circumstances warrant continued relief from the requirements addressed herein after March 31, 2022, they may request a case-specific waiver. Such requests will be addressed at that time.

Dated: March 18, 2022.
Debbie-Anne A. Reese,
Deputy Secretary.

[FR Doc. 2022-06239 Filed 3-23-22; 8:45 am]

BILLING CODE 6717-01-P